DEPARTMENT OF LABOR

Employment and Training Administration

[NAFTA-5710; NAFTA-5710A]

Rockwell Collins a/k/a New Rockwell, Passenger Systems, Irvine, CA; and Rockwell Collins a/k/a New Rockwell, Passenger Systems, Pomona, CA; Amended Certification Regarding Eligibility To Apply for NAFTA-Transitional Adjustment Assistance

In accordance with Section 250(a), Subchapter D, Chapter 2, Title II, of the Trade Act of 1974, as amended (19 USC 2273), the Department of Labor issued a Certification of Eligibility to Apply for NAFTA-Transitional Adjustment Assistance on March 8, 2002, applicable to workers of Rockwell Collins, Passenger Systems, located in Irvine and Pomona, California. The notice was published in the Federal Register on March 29, 2002 (67 FR 15227).

At the request of the State agency, the Department reviewed the certification for workers of the subject firm. Information provided by the State show that the workers wages are reported to the Unemployment Insurance tax account for New Rockwell.

The intent of the Department's certification is to provide coverage to all workers of Rockwell Collins, Passenger Systems, Irvine and Pomona, California, adversely affected by the shift in production of in-flight entertainment systems to Mexico. Therefore, the Department is amending the certification to include workers of the subject firm whose wages are paid by New Rockwell.

The amended notice applicable to NAFTA-5710 and NAFTA-5710A is hereby issued as follows:

All workers of Rockwell Collins, also known as New Rockwell, Pomona, California (NAFTA-5710) and Irvine, California (NAFTA-5710A), who became totally or partially separated from employment on or after January 3, 2001 through March 8, 2004, are eligible to apply for NAFTA-TAA under Section 250 of the Trade Act of 1974. Workers of Rockwell Collins, also known as New Rockwell, Pomona, California and Irvine, California, engaged in the production of the 8.6″ Boeing retract for PAVES in-flight entertainment system are covered under NAFTA-4964 and NAFTA-4964A, respectively, through July 16, 2003; and beginning July 17, 2003 through March 8, 2004, are eligible under this certification to apply for NAFTA-TAA Section 250 of the Trade Act of 1974.

Signed in Washington, DC this 6th day of June, 2002.
Linda G. Poole,
Certifying Officer, Division of Trade Adjustment Assistance.

[FR Doc. 02-15754 Filed 6-20-02; 8:45 am]

BILLING CODE 4510-30-P